DEPARTMENT OF THE TREASURY

Submission for OMB Review; Comment Request

September 10, 2002.

The Department of Treasury has submitted the following public information collection requirement(s) to OMB for review and clearance under the Paperwork Reduction Act of 1995, P. L. 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before October 18, 2002, to be assured of consideration.

Internal Revenue Service (IRS)

OMB Number: 1545-1785.

Form Number: IRS Form 8884.

Type of Review: Revision.

Title: New York Liberty Zone Business Employee Credit.

Description: Form 8884 is used by business owners to request the Liberty Zone Credit for wages paid to qualified employees. This form was created by section 301 of the Job Creation and Worker Assistance Act of 2002, Public 107-147.

Respondents: Business or other for-profit, State, individuals or households, not-for-profit institutions, farms.

Estimated Number of Respondents/Recordkeepers: 15,000.

Estimated Burden Hours Per Respondent/Recordkeeper:

Recordkeeping—9 hr., 48 min.

Learning about the law or the form—1 hr., 00 min.

Preparing and sending the form to the IRS—1 hr., 12 min.

Frequency of Response: Annually.

Estimated Total Reporting/Recordkeeping Burden: 180,000 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Mary A. Able,
Departmental Reports Management Officer.

[FR Doc. 02-23674 Filed 9-17-02; 8:45 am]

BILLING CODE 4830-01-P